SMALL BUSINESS ADMINISTRATION

[Disaster Declaration #16862 and #16863; Maryland Disaster Number MD-00042]

Presidential Declaration of a Major Disaster for Public Assistance Only for the State of Maryland

AGENCY: U.S. Small Business Administration.

ACTION: Notice.

SUMMARY: This is a Notice of the Presidential declaration of a major disaster for Public Assistance Only for the State of Maryland (FEMA-4583-DR), dated 02/04/2021.

Incident: Tropical Storm Isaias.

Incident Period: 08/03/2020 through 08/04/2020.

DATES: Issued on 02/04/2021.

Physical Loan Application Deadline Date: 04/05/2021.

Economic Injury (EIDL) Loan Application Deadline Date: 11/04/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 02/04/2021, Private Non-Profit organizations that provide essential services of a governmental nature may file disaster loan applications at the address listed above or other locally announced locations.

The following areas have been determined to be adversely affected by the disaster:

Primary Counties: Calvert, Dorchester, Saint Mary's.

The Interest Rates are:

| Percent
For Physical Damage:
Non-Profit Organizations with Credit Available Elsewhere | 2.750
Non-Profit Organizations without Credit Available Elsewhere | 2.750
For Economic Injury:
Non-Profit Organizations without Credit Available Elsewhere | 2.750

The number assigned to this disaster for physical damage is 16862 8 and for economic injury is 16863 0.

(Catalog of Federal Domestic Assistance Number 59008)

Cynthia Pitts,
Acting Associate Administrator for Disaster Assistance.

[FR Doc. 2021-02881 Filed 2-11-21; 8:45 am]

BILLING CODE 8026-03-P